DEPARTMENT OF ENERGY

Federal Energy Regulatory Commission

[Project No. 4900-090]

Forestport Hydro, LLC; Notice of Application Accepted for Filing and Soliciting Motions To Intervene and Protests

Take notice that the following hydroelectric application has been filed with the Commission and is available for public inspection.

a. Type of Application: New License.

b. Project No.: 4900-090.

c. Date Filed: February 27, 2025.

d. Applicant: Forestport Hydro, LLC.

e. Name of Project: Forestport Hydroelectric Project.

f. Location: On the Black River in Oneida County, New York.

g. Filed Pursuant to: Federal Power Act, 16 U.S.C. 791(a)-825(r).

h. Applicant Contact: Antonio Zarella, Chief Operating Officer, Forestport Hydro, LLC, 230 Park Avenue, Suite 447, New York, NY 10169; telephone at (315) 247-0253; email at TZ@relevatepower.com.

i. FERC Contact: Erin Mocko, Project Coordinator, Great Lakes Branch, Division of Hydropower Licensing; telephone at (202) 502-8107; email at Erin.mocko@ferc.gov.

j. Deadline for filing motions to intervene and protests: November 7, 2025 by 5:00 p.m. EST.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Forestport Hydroelectric Project (P-4900-090).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing, but is not ready for environmental analysis at this time.

l. Project Description: The existing project consists of a 27-foot-high dam known as the Forestport Dam, that includes a 315-foot-long ogee spillway. The Forestport Dam creates an impoundment that has a surface area of 118 acres at a normal surface elevation of 1,126.55 feet National Geodetic Vertical Datum 1929 (NGVD29).

From the impoundment, water flows through gates and a canal to a forebay known as Alder Pond. Alder Pond has a surface area of 24 acres at a normal surface elevation of 1,124.6 feet NGVD29 and is formed by a 550-foot-long, 15-foot-high earth embankment known as Alder Pond Dam.

From Alder Pond, water flows through a power canal to an intake structure with trashracks with 1.75-inch clear bar spacing. From the intake structure, water flows through a penstock to a powerhouse that includes a 3.3-megawatt (MW) S-type Kaplan turbine-generator. From the powerhouse, water is released into a tailrace that discharges into the Black River.

The project generators are connected to the regional electric grid by generator lead lines and a 4.16/46-kV transformer.

Project recreation facilities include: (1) Alder Pond parking and access area, adjacent to the east side of the Alder Pond Dam; (2) Forestport impoundment parking and access area, adjacent to the Forestport Dam on the northwest shore of the Forestport impoundment; (3) an approximately 1,200 foot-long portage route from the Forestport access area to the Alder Pond access area; (4) an approximately 150-foot-long power canal portage route; and (5) a powerhouse parking and access area.

Forestport Hydro proposes to: (1) continue operating the project in a run-of-river mode and maintaining the surface elevation of the Forestport impoundment at 1,126.55 feet NGVD29; (2) continue to maintain the surface elevation of Alder Pond between 1,123.6 and 1,124.6 feet NGVD29; (3) continue to release a minimum flow of 140 cfs or inflow, whichever is less, over the Forestport Dam; (4) implement a Bat and Bald Eagle Management Plan and an Invasive Species Management Plan; (5) develop an operation compliance monitoring plan; (6) continue to maintain existing project recreation facilities and update directional and safety signage; (7) move the power canal portage take-out site upstream of the boat barrier; and (8) to protect cultural resources, consult with the New York State Historic Preservation Officer before beginning any land-clearing or land-disturbing activities.

m. A copy of the application can be viewed on the Commission's website at http://www.ferc.gov using the “eLibrary” link. Enter the docket number excluding the last three digits in the docket number field to access the document (P-4900). For assistance, contact FERC Online Support.

You may also register online at https://ferconline.ferc.gov/FERCOnline.aspx to be notified via email of new filings and issuances related to this or other pending projects. For assistance, contact FERC Online Support.

n. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

o. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

p. Procedural Schedule: The application will be processed according to the following preliminary schedule. Revisions to the schedule will be made as appropriate.

Milestone | Target date
Issue Notice of Scoping | September 2025.
Filing of Scoping Comments | October 2025.
Filing of Motions to Intervene and Protests | November 2025.
Issue Notice of Ready for Environmental Analysis | November 2025.
Filing of Comments, Recommendations, Terms, Conditions, and Prescriptions | January 2026.
Filing of Reply Comments | February 2026.

Dated: September 8, 2025.
Debbie-Anne A. Reese,
Secretary.

[FR Doc. 2025-17577 Filed 9-10-25; 8:45 am]

BILLING CODE 6717-01-P